DEPARTMENT OF ENERGY

Federal Energy Regulatory Commission

[Docket No. RP01-115-000]

Maritimes & Northeast Pipeline, L.L.C.; Notice of Proposed Changes in FERC Gas Tariff

December 1, 2000.

Take notice that on November 22, 2000, Maritimes & Northeast Pipeline, L.L.C.; (Maritimes) tendered for filing as part of its FERC Gas Tariff, First Revised Volume No. 1, First Revised Sheet No. 301, to be effective on January 1, 2001.

Maritimes states that the purpose of this filing is to revise the title of the person to whom complaints should be directed regarding Maritimes' compliance with the Commission's gas marketing affiliate rules and to provide for the posting on Maritimes' Internet Web site of information regarding shared operating employees and shared facilities, as well as any physical office space barriers and card key protections that may be necessitated by virtue of shared office space, consistent with Commission precedent.

Maritimes states that copies of its filing have been mailed to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims. htm (call 202-208-2222 for assistance). Comments and protests may be filed electronically via the internet in lieu of paper. See, 18 CFR 385.200(a)(1)(iii) and the instructions on the Commission's web site at http://www.ferc.fed.us/efi/doorbell.htm.

David P. Boergers,
Secretary.

[FR Doc. 00-31132 Filed 12-6-00; 8:45 am]

BILLING CODE 6717-01-M